ENVIRONMENTAL PROTECTION AGENCY

[EPA-HQ-OPP-2008-0894; FRL-8395-5]

Pesticide Emergency Exemptions; Agency Decisions and State and Federal Agency Crisis Declarations

AGENCY: Environmental Protection Agency (EPA).

ACTION: Notice.

SUMMARY: EPA has granted emergency exemptions under the Federal Insecticide, Fungicide, and Rodenticide Act (FIFRA) for use of pesticides as listed in this notice. The exemptions were granted during the period July 1, 2008 through September 30, 2008 to control unforeseen pest outbreaks.

FOR FURTHER INFORMATION CONTACT: See each emergency exemption for the name of a contact person. The following information applies to all contact persons: Team Leader, Emergency Response Team, Registration Division (7505P), Office of Pesticide Programs, Environmental Protection Agency, 1200 Pennsylvania Ave., NW., Washington, DC 20460-0001; telephone number: (703) 308-9366.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the emergency exemption of interest.

B. How Can I Get Copies of this Document and Other Related Information?

1. Docket. EPA has established a docket for this action under docket identification (ID) number EPA-HQ-OPP-2008-0894. Publicly available docket materials are available either electronically at http://www.regulations.gov, or, if only available in hard copy, at the OPP Regulatory Public Docket in Rm. S-4400, One Potomac Yard (South Bldg.), 2777 S. Crystal Dr., Arlington, VA. The hours of operation of this Docket Facility is open from 8:30 a.m. to 4 p.m., Monday through Friday, excluding legal holidays. The Docket Facility telephone number is (703) 305-5805.

2. Electronic access. You may access this Federal Register document electronically through the EPA Internet under the “Federal Register” listings at http://www.epa.gov/fedrgstr.

II. Background

EPA has granted emergency exemptions to the following State and Federal agencies. The emergency exemptions may take the following form: Crisis, public health, quarantine, or specific.

Under FIFRA section 18, EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are a particular form of specific exemption issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document, EPA identifies the State or Federal agency granted the exemption, the type of exemption, the pesticide authorized and the pests, the crop or use for which authorized, number of acres (if applicable), and the duration of the exemption. EPA also gives the Federal Register citation for the time-limited tolerance, if any.

III. Emergency Exemptions

A. U. S. States and Territories

California

Environmental Protection Agency, Department of Pesticide Regulation

Public Health: On August 15, 2008, for the use of d-phenothrin over agricultural fields to control mosquitoes that vector West Nile virus, St Louis Encephalitis, and Western Equine Encephalitis. Contact: Princess Campbell.

Delaware

Department of Agriculture

Specific exemption: EPA authorized the use of spiromesifen on soybeans to control spider mites; August 13, 2008 to September 15, 2008. Contact: Andrea Conrath.

Florida

Department of Agriculture and Consumer Services

Quarantine exemption: On September 25, 2008, for the use of naled to eradicate tephritid fruit flies, responsive to the attractant, methyl eugenol. Contact: Princess Campbell.

Idaho

Department of Agriculture

Specific exemption: EPA authorized the use of endothall in agricultural irrigation canals in Twin Falls County to control various aquatic weeds; September 30, 2008 to October 31, 2008. Contact: Andrea Conrath.

Illinois

Department of Agriculture

Specific exemption: EPA authorized the use of chlorantraniliprole on sweet corn to control corn earworm; July 1, 2008 to October 10, 2008. Contact: Marcel Howard.

Indiana

Office of Indiana State Chemist

Specific exemption: EPA authorized the use of chlorantraniliprole on sweet corn to control corn earworm; August 5, 2008 to October 15, 2008. Contact: Marcel Howard.

Minnesota

Department of Agriculture

Specific exemption: EPA authorized the use of chlorantraniliprole on sweet corn to control corn earworm; July 1, 2008 to September 30, 2008. Contact: Marcel Howard.

Crisis: On August 15, 2008, for the use of lamda-cyhalothrin on wild rice to control rice worm. This program ended on August 29, 2008. Contact: Andrew Ertman.

North Dakota

Department of Agriculture

Crisis: On July 24, 2008, for the use of tebuconazole on sunflowers to control rust (Puccinia helianthi). This program ended on August 8, 2008. Contact: Libby Pemberton.

Ohio

Department of Agriculture

Specific exemption: EPA authorized the use of chlorantraniliprole on sweet corn to control corn earworm; July 22, 2008 to September 30, 2008. Contact: Marcel Howard.

Oregon

Department of Agriculture

Crisis: On June 30, 2008, for the use of diflubenzuron on alfalfa grown for seed to control grasshoppers and mormon crickets. This program ended on July 15, 2008. Contact: Libby Pemberton.

Pennsylvania

Department of Agriculture

Specific exemption: EPA authorized the use of chlorantraniliprole on sweet corn to control corn earworm; August 8, 2008 to October 30, 2008. Contact: Marcel Howard.

Wisconsin

Department of Agriculture, Trade, and Consumer Protection

Specific exemption: EPA authorized the use of chlorantraniliprole on sweet corn to control corn earworm; July 22, 2008 to September 30, 2008. Contact: Marcel Howard.

Crisis: On August 30, 2008, for the use of chlorpyrifos on ginseng to control soil larvae. This program ended on November 15, 2008. Contact: Stacey Groce.

B. Federal Departments and Agencies

Agriculture Department

Animal and Plant Health Inspector Service

Specific exemption: EPA authorized the use of diflubenzuron on alfalfa grown for hay to control Mormon Crickets (Anabrus simplex) and Grasshoppers (various spp.) (Family Acrididae); July 2, 2008 to October 1, 2008. This request was granted on the basis that diflubenzuron is preferable to registered alternatives in potential impacts on pollinators of the Spalding's catchfly, a threatened plant species endemic to the proposed treatment area in Montana. Contact: Libby Pemberton.

Defense Department

Quarantine exemption: On September 30, 2008, for the use of paraformaldehyde to decontaminate biological containment areas to prevent the release of infectious microorganisms. Contact: Princess Campbell.

List of Subjects

Environmental protection, Pesticides and pests.

Dated: January 2, 2009.
P.V. Shah,
Acting Director, Registration Division, Office of Pesticide Programs.

[FR Doc. E9-502 Filed 1-13-09; 8:45 am]

BILLING CODE 6560-50-S